DEPARTMENT OF COMMERCE

National Oceanic and Atmospheric Administration

[RTID 0648-XF168]

New England Fishery Management Council; Public Meeting

AGENCY: National Marine Fisheries Service (NMFS), National Oceanic and Atmospheric Administration (NOAA), Commerce.

ACTION: Notice of public meeting.

SUMMARY: The New England Fishery Management Council (Council) will hold a 3-day hybrid meeting with both in-person and webinar participation options to consider actions affecting New England fisheries in the exclusive economic zone (EEZ).

DATES: The meeting will be held Tuesday, Wednesday, and Thursday, September 23 through 25, 2025, beginning at 9 a.m. each day.

ADDRESSES:

Meeting address: The meeting will be held at the Beauport Hotel, 55 Commercial Street, Gloucester, MA 01930; telephone (978) 282-0008; online at https://www.beauporthotel.com/. Register for the webinar at https://nefmc-org.zoom.us/webinar/register/WN__1D1JgTwSc2Nj-i3MF3bhw#/registration

Council address: New England Fishery Management Council, 50 Water Street, Mill 2, Newburyport, MA 01950; telephone (978) 465-0492; www.nefmc.org.

FOR FURTHER INFORMATION CONTACT: Cate O'Keefe, Executive Director, New England Fishery Management Council; telephone: (978) 465-0492, ext. 113.

SUPPLEMENTARY INFORMATION:

Agenda

Tuesday, September 23, 2025

The Council will begin the meeting with introductions and announcements by Acting Council Chair Daniel Salerno, followed by the swearing-in of new and reappointed Council members and the election of officers for the 2025-2026 term.

The Council will then receive reports from the Council Chair and Executive Director, the Greater Atlantic Regional Fisheries Office (GARFO), NOAA General Counsel, the Northeast Fisheries Science Center (NEFSC), the Mid-Atlantic Fishery Management Council (MAFMC), the Atlantic States Marine Fisheries Commission (ASMFC), the U.S. Coast Guard, NOAA Enforcement, and the Highly Migratory Species Advisory Panel.

Following reports, Council staff will present recommendations under Executive Order 14276, Restoring American Seafood Competitiveness, for Council approval. The Council will then take final action on an omnibus Management Flexibility Action addressing specification frequency, rollover provisions, in-season adjustment authority, and related measures.

After the lunch break, the Council will receive a report from the Northeast Trawl Advisory Panel (NTAP) on its July 2025 meeting and updates on the Regional Industry-Based Trawl Survey (RIBTS) pilot project. The Scientific and Statistical Committee (SSC), chaired by Dr. Conor McManus, will present overfishing limit (OFL) and acceptable biological catch (ABC) recommendations for northern and southern monkfish and the skate complex, as well as scallop specification process recommendations.

The Council will then hear from the Monkfish and Skate Committees and take final action on Framework 17 to set monkfish specifications for 2026-2028 and defaults for 2029-2030, along with final action on skate specifications for 2026-2027 and defaults for 2028-2030. The meeting will adjourn at 5 p.m.

At 6 p.m., the Council will host a public outreach session at the Beauport Hotel to foster informal discussion among Council members, staff, industry participants, and members of the public.

Wednesday, September 24, 2025

The second day will begin with a presentation from the NEFSC Cooperative Research Branch, followed by the Scallop Committee report on Framework Adjustment 40, survey updates, the Scallop Strategic Plan, and the Limited Access General Category Individual Fishing Quota Program Review.

Next, the Groundfish Committee will report on Amendment 25, including Council final action to incorporate four cod stock units into the Northeast Multispecies Fishery Management Plan, and provide an update on Framework 72.

After a Council photo and lunch break, the Habitat Committee will present final action on an Essential Fish Habitat (EFH) framework revising EFH designations for Atlantic herring, Atlantic cod, skates, and monkfish. The Climate and Ecosystem Steering Committee will provide updates on process mapping, Inflation Reduction A-funded projects, and regional climate and ecosystem initiatives.

The day will conclude with an open public comment period for issues not listed on the agenda.

Thursday, September 25, 2025

The Council will begin with a report from the On-Demand Gear Conflict Working Group, including final action on an omnibus framework to revise gear-marking regulations for the use of fixed gear without persistent buoy lines in New England and Mid-Atlantic fisheries. The Council also will review and approve the Working Group's final report under its Terms of Reference.

The Council will then hold an initial discussion of 2026 Council priorities, followed by planning updates from the Executive Director. The meeting will conclude with any other business and adjourn at noon.

Special Accommodations

This meeting is physically accessible to people with disabilities. Requests for sign language interpretation or other auxiliary aids should be directed to Executive Director Cate O'Keefe (see ADDRESSES) at least 5 days prior to the meeting date.

Dated: September 5, 2025.
Rey Israel Marquez,
Acting Deputy Director, Office of Sustainable Fisheries, National Marine Fisheries Service.

[FR Doc. 2025-17308 Filed 9-8-25; 8:45 am]

BILLING CODE 3510-22-P